DEPARTMENT OF COMMERCE

National Telecommunications and Information Administration 2024 NTIA Spectrum Policy Symposium

AGENCY: National Telecommunications and Information Administration, Department of Commerce.

ACTION: Notice of public meeting.

SUMMARY: The National Telecommunications and Information Administration (NTIA), U.S. Department of Commerce, will host a public symposium on February 1, 2024, focusing on implementation of the National Spectrum Strategy, which the Executive Office of the President released on November 13, 2023.

DATES: The symposium will be held on February 1, 2024, from 9:00 a.m. to 4:30 p.m., Eastern Standard Time (EST).

ADDRESSES: The symposium will take place at the National Press Club, located at 529 14th St. NW, Washington, DC 20045. The event also will be webcast through the NTIA website at https://www.ntia.gov/page/ntia-spectrum-policy-symposium.

FOR FURTHER INFORMATION CONTACT: John Alden, Telecommunications Specialist, Office of Spectrum Management, NTIA, at (202) 482-8046 or spectrumsymposium@ntia.gov. Please direct media inquiries to NTIA's Office of Public Affairs, (202) 482-7002; email: press@ntia.gov.

SUPPLEMENTARY INFORMATION: NTIA serves as the president's principal advisor on telecommunications policies and manages the use of the radio-frequency spectrum by federal agencies. See 47 U.S.C. 902(b)(2). NTIA is hosting a symposium to focus on implementing the National Spectrum Strategy released by the Executive Office of the President on November 13, 2023. The Strategy was accompanied by a Presidential Memorandum titled “Modernizing United States Spectrum Policy and Establishing a National Spectrum Strategy,” which calls for the Secretary of Commerce, acting through NTIA, to publish an Implementation Plan for the Strategy. This will chart the course for federal agency actions, pursuant to the Presidential Memorandum, to further the policy objectives stated in the Strategy.

The strategic objectives in the Strategy are grouped under four “pillars” for further action:

• Pillar One: A spectrum pipeline to ensure U.S. leadership in advanced and emerging technologies;

• Pillar Two: Collaborative long-term planning to support the nation's evolving spectrum needs;

• Pillar Three: Unprecedented spectrum innovation, access, and management through technology development; and

• Pillar Four: Expanded spectrum expertise and elevated national awareness.

Speakers from the Department of Commerce, the Executive Office of the President, the Federal Communications Commission and Congress have been invited to provide keynote remarks. Panelists are expected to include participants from the FCC, Executive Branch agencies, and the private sector. Prior to the symposium event, NTIA will post detailed program information on its website: www.ntia.gov.

The symposium is open to the public and members of the press to attend or to view through a webcast available on the NTIA website. While it is not required, NTIA asks that online attendees provide registration information prior to the event. This information will include names, email addresses, and organizations (optional). Registration information, the agenda, meeting updates, if any, and other relevant documents will be available on NTIA's website.

The event webcast will be close-captioned. Individuals requiring special accommodations, such as sign language interpretation or other ancillary aids, should notify Mr. Alden at the contact information listed above at least ten (10) business days before the event.

Stephanie Weiner,
Chief Counsel, National Telecommunications and Information Administration.

[FR Doc. 2023-28564 Filed 12-26-23; 8:45 am]

BILLING CODE 3510-60-P